DEPARTMENT OF TRANSPORTATION

Federal Aviation Administration

14 CFR Part 39

[Docket No. 2000-NM-371-AD; Amendment 39-12365; AD 2001-15-30]

RIN 2120-AA64

Airworthiness Directives; BAE Systems (Operations) Limited Model Avro 146-RJ Series Airplanes

AGENCY: Federal Aviation Administration, DOT.

ACTION: Final rule.

SUMMARY: This amendment adopts a new airworthiness directive (AD), applicable to certain BAE Systems (Operations) Limited Model Avro 146-RJ series airplanes, that requires inspection to detect incorrect wiring of the fire extinguisher bottles located on the engines and on the auxiliary power unit (APU), and corrective action, as necessary. It also requires modification of the wiring of the fire extinguisher bottles located on the engines and on the APU. This amendment is prompted by reports of incorrect wiring of the fire extinguisher bottles on the engines and the APU discovered during routine maintenance. The actions specified by this AD are intended to prevent failure of the fire extinguisher bottles to discharge, which could result in the inability to extinguish a fire in the engines or in the APU.

DATES: Effective September 12, 2001.

The incorporation by reference of certain publications listed in the regulations is approved by the Director of the Federal Register as of September 12, 2001.

ADDRESSES: The service information referenced in this AD may be obtained from British Aerospace Regional Aircraft American Support, 13850 Mclearen Road, Herndon, Virginia 20171. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Todd Thompson, Aerospace Engineer, ANM-116, International Branch, FAA, Transport Airplane Directorate, 1601 Lind Avenue, SW., Renton, Washington 98055-4056; telephone (425) 227-1175; fax (425) 227-1149.

SUPPLEMENTARY INFORMATION: A proposal to amend part 39 of the Federal Aviation Regulations (14 CFR part 39) to include an airworthiness directive (AD) that is applicable to certain BAE Systems (Operations) Limited Model Avro 146-RJ series airplanes was published in the Federal Register on April 25, 2001 (66 FR 20766). That action proposed to require inspection to detect incorrect wiring of the fire extinguisher bottles located on the engines and on the auxiliary power unit (APU), and corrective action, as necessary. It also proposed to require modification of the wiring of the fire extinguisher bottles located on the engines and on the APU.

Comments

Interested persons have been afforded an opportunity to participate in the making of this amendment. No comments were submitted in response to the proposal or the FAA's determination of the cost to the public.

Changes to the Final Rule

The FAA has revised paragraph (a) of the final rule to cite the latest service information, BAE Systems (Operations) Limited Inspection Service Bulletin ISB.26-60, Revision 2, dated January 18, 2001, as the appropriate source of service information for accomplishment of the actions required by that paragraph. The original issue and Revision 1 of the service bulletin were cited in the proposed AD; however, Revision 2 is similar to those versions of the service bulletin. In addition, the FAA has added a new Note 2 to this final rule to provide credit to those operators that accomplished one of the earlier versions of the service bulletin.

Conclusion

After careful review of the available data, the FAA has determined that air safety and the public interest require the adoption of the rule with the changes described previously. The FAA has determined that these changes will neither increase the economic burden on any operator nor increase the scope of the AD.

Cost Impact

The FAA estimates that 44 airplanes of U.S. registry will be affected by this AD, that it will take approximately 1 work hour per airplane to accomplish the required inspection, and that the average labor rate is $60 per work hour. Based on these figures, the cost impact of the inspection on U.S. operators is estimated to be $2,640, or $60 per airplane.

The FAA estimates that it will take approximately 4 work hours per airplane to accomplish the required modification of the wiring of the fire extinguisher bottles on the engines, and that the average labor rate is $60 per work hour. According to the applicable service bulletin, the cost of required parts is to be arranged between BAE Systems and the operator. Based on these figures, the cost impact of this modification on U.S. operators is estimated to be $10,560, or $240 per airplane, excluding any costs to the operator for required parts.

The FAA also estimates that it will take approximately 1 work hour per airplane to accomplish the required modification of the wiring of the fire extinguisher bottles on the APU, and that the average labor rate is $60 per work hour. According to the applicable service bulletin, the cost of required parts is to be arranged between BAE Systems and the operator. Based on these figures, the cost impact of this modification on U.S. operators is estimated to be $2,640, or $60 per airplane, excluding any costs to the operator for required parts.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-15-30 BAE Systems (Operations) Limited (Formerly British Aerospace Regional Aircraft): Amendment 39-12365. Docket 2000-NM-371-AD.

Applicability: Model Avro 146-RJ series airplanes, certificated in any category, with modifications HCM01582A, HCM01582B, HCM36192A, or HCM36192B embodied.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent the failure of the fire extinguisher bottles on the engines or on the auxiliary power unit (APU) to discharge, which could result in the inability to extinguish a fire in the engines or in the APU, accomplish the following:

Inspection

(a) Within 90 days after the effective date of this AD: Perform a one-time inspection consisting of a “continuity check” to detect incorrect wiring on the fire extinguisher bottles located on the engines and on the APU, in accordance with the Accomplishment Instructions of BAE Systems (Operations) Limited Inspection Service Bulletin ISB.26-60, Revision 2, dated January 18, 2001. If incorrect wiring is detected, prior to further flight, correct the wiring in accordance with the service bulletin.

Note 2: Accomplishment of the actions required by paragraph (a) of this AD in accordance with BAE Systems (Operations) Limited Inspection Service Bulletin ISB.26-60, dated September 4, 2000, or Revision 1, dated October 10, 2000, is acceptable for compliance with the requirements of that paragraph.

Repeat Inspection

(b) Following any maintenance work, including a complete engine change, that affects the wiring of the fire extinguisher bottles located on the engines or on the APU and prior to further flight thereafter: Perform the inspection required by paragraph (a) of this AD. If incorrect wiring is detected, prior to further flight, correct the wiring in accordance with BAE Systems (Operations) Limited Modification Service Bulletin SB.26-061-36220A or SB.26-060-01688A, both dated January 18, 2001, as applicable.

Modification

(c) Within one year after the effective date of this AD: Modify the wiring of the fire extinguisher bottles located on the engines, in accordance with the Accomplishment Instructions of BAE Systems (Operations) Limited Modification Service Bulletin SB.26-060-01688A, dated January 18, 2001; and modify the wiring of the fire extinguisher bottle located on the APU, in accordance with the Accomplishment Instructions of BAE Systems (Operations) Limited Modification Service Bulletin SB.26-061-36220A, dated January 18, 2001. Accomplishment of these actions constitutes terminating action for the requirements of this AD.

Alternative Methods of Compliance

(d) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(e) Special flight permits may be issued in accordance with sections 21.197 and 21.199 of the Federal Aviation Regulations (14 CFR 21.197 and 21.199) to operate the airplane to a location where the requirements of this AD can be accomplished.

Incorporation by Reference

(f) The actions shall be done in accordance with BAE Systems (Operations) Limited Inspection Service Bulletin ISB.26-60, Revision 2, dated January 18, 2001; BAE Systems (Operations) Limited Modification Service Bulletin SB.26-061-36220A, dated January 18, 2001; and BAE Systems (Operations) Limited Modification Service Bulletin SB.26-060-01688A, dated January 18, 2001; as applicable. Revision 2 of BAE Systems (Operations) Limited ISB.26-60 contains the following list of effective pages:

Page No. | Revision level shown on page | Date shown on page
1, 13 | 2 | January 18, 2001.
2-4, 6-12, 14 | Original | September 4, 2000.
5 | 1 | October 10, 2000.

(The revision date is listed only on the first page of the document; no other page contains this information.) This incorporation by reference was approved by the Director of the Federal Register in accordance with 5 U.S.C. 552(a) and 1 CFR part 51. Copies may be obtained from British Aerospace Regional Aircraft American Support, 13850 Mclearen Road, Herndon, Virginia 20171. Copies may be inspected at the FAA, Transport Airplane Directorate, 1601 Lind Avenue, SW., Renton, Washington; or at the Office of the Federal Register, 800 North Capitol Street, NW., suite 700, Washington, DC.

Note 4: The subject of this AD is addressed in British airworthiness directive 002-09-2000.

Effective Date

(g) This amendment becomes effective on September 12, 2001.

Issued in Renton, Washington, on July 25, 2001.
Vi L. Lipski,
Manager, Transport Airplane Directorate, Aircraft Certification Service.

[FR Doc. 01-19253 Filed 8-7-01; 8:45 am]

BILLING CODE 4910-13-U